DEPARTMENT OF COMMERCE

International Trade Administration

Quarterly Update to Annual Listing of Foreign Government Subsidies on Articles of Cheese Subject to an In-Quota Rate of Duty

AGENCY: Import Administration, International Trade Administration, Department of Commerce.

EFFECTIVE DATE: July 18, 2006.

FOR FURTHER INFORMATION CONTACT: Maura Jeffords or Eric Greynolds, AD/CVD Operations, Office 3, Import Administration, International Trade Administration, U.S. Department of Commerce, 14th Street and Constitution Ave., NW, Washington, DC 20230, telephone: (202) 482-3146 or 6071, respectively.

SUPPLEMENTARY INFORMATION: Section 702 of the Trade Agreements Act of 1979 (as amended) (“the Act”) requires the Department of Commerce (“the Department”) to determine, in consultation with the Secretary of Agriculture, whether any foreign government is providing a subsidy with respect to any article of cheese subject to an in-quota rate of duty, as defined in section 702(h) of the Act, and to publish an annual list and quarterly updates of the type and amount of those subsidies. We hereby provide the Department's quarterly update of subsidies on articles of cheese that were imported during the period January 1, 2006, through March 31, 2006.

The Department has developed, in consultation with the Secretary of Agriculture, information on subsidies (as defined in section 702(h) of the Act) being provided either directly or indirectly by foreign governments on articles of cheese subject to an in-quota rate of duty. The appendix to this notice lists the country, the subsidy program or programs, and the gross and net amounts of each subsidy for which information is currently available. The Department will incorporate additional programs which are found to constitute subsidies, and additional information on the subsidy programs listed, as the information is developed.

The Department encourages any person having information on foreign government subsidy programs which benefit articles of cheese subject to an in-quota rate of duty to submit such information in writing to the Assistant Secretary for Import Administration, U.S. Department of Commerce, 14th Street and Constitution Avenue, NW, Washington, DC 20230.

This determination and notice are in accordance with section 702(a) of the Act.

Dated: July 12, 2006.
David M. Spooner,
Assistant Secretary for Import Administration.

APPENDIX
SUBSIDY PROGRAMS ON CHEESE SUBJECT TO AN IN-QUOTA RATE OF DUTY¹
Country | Program(s) | Gross² Subsidy ($/lb) | Net³ Subsidy ($/lb)
Austria | European Union Restitution Payments | $ 0.00 | $ 0.00
Belgium | EU Restitution Payments | $ 0.00 | $ 0.00
Canada | Export Assistance on Certain Types of Cheese | $ 0.30 | $ 0.30
Cyprus | EU Restitution Payments | $ 0.00 | $ 0.00
Denmark | EU Restitution Payments | $ 0.00 | $ 0.00
Finland | EU Restitution Payments | $ 0.00 | $ 0.00
France | EU Restitution Payments | $ 0.00 | $ 0.00
Germany | EU Restitution Payments | $ 0.00 | $ 0.00
Greece | EU Restitution Payments | $ 0.00 | $ 0.00
Hungary* | EU Restitution Payments | $ 0.00 | $ 0.00
Ireland | EU Restitution Payments | $ 0.00 | $ 0.00
Italy | EU Restitution Payments | $ 0.00 | $ 0.00
Lithuania | EU Restitution Payments | $ 0.00 | $ 0.00
Netherlands | EU Restitution Payments | $ 0.00 | $ 0.00
Norway | Indirect (Milk) Subsidy | $ 0.00 | $ 0.00
| Consumer Subsidy | $ 0.00 | $ 0.00
| Total | $ 0.00 | $ 0.00
Poland | EU Restitution Payments | $ 0.00 | $ 0.00
Portugal | EU Restitution Payments | $ 0.00 | $ 0.00
Spain | EU Restitution Payments | $ 0.00 | $ 0.00
Switzerland | Deficiency Payments | $ 0.00 | $ 0.00
U.K. | EU Restitution Payments | $ 0.00 | $ 0.00
¹ This chart includes only those countries which exported articles of cheese to the United States during 1st Quarter, 2006, Luxembourg, Poland and Slovenia did not export articles of cheese to the United States during the 1st Quarter, 2006.
² Defined in 19 U.S.C. 1677(5).
³ Defined in 19 U.S.C. 1677(6).

[FR Doc. E6-11369 Filed 7-17-06; 8:45 am]

BILLING CODE 3510-DS-S